DEPARTMENT OF COMMERCE

International Trade Administration

A-570-865

Final Rescission of Antidumping Duty Administrative Review: Certain Hot-Rolled Carbon Steel Flat Products from the People's Republic of China

AGENCY: Import Administration, International Trade Administration, Department of Commerce.

EFFECTIVE DATE: June 16, 2008.

FOR FURTHER INFORMATION CONTACT: Toni Dach or Scot Fullerton, AD/CVD Operations, Office 9, Import Administration, International Trade Administration, U.S. Department of Commerce, 14th Street and Constitution Avenue, NW, Washington, DC 20230; telephone: (202) 482-1655 and (202) 482-1386, respectively.

SUPPLEMENTARY INFORMATION:

Background

On November 1, 2007, the Department of Commerce (“Department”) published a notice of opportunity to request an administrative review of the antidumping duty order on certain hot-rolled carbon steel flat products from the People’s Republic of China (“PRC”) for the period of review (“POR”) November 1, 2006, through October 31, 2007. See Antidumping or Countervailing Duty Order, Finding, or Suspended Investigation; Opportunity to Request Administrative Review, 72 FR 61859 (November 1, 2007). On November 30, 2007, Nucor Corporation (“Petitioner”), a domestic producer of certain hot-rolled carbon steel flat products, requested that the Department conduct an administrative review of Baosteel Group Corporation, Shanghai Baosteel International Economic & Trading Co., Ltd., and Baoshan Iron and Steel Co., Ltd. (collectively “Baosteel”). On December 27, 2007, the Department published a notice of initiation of an antidumping duty administrative review on certain hot-rolled carbon steel flat products from the PRC. See Initiation of Antidumping and Countervailing Duty Administrative Reviews, (“Notice of Initiation”), 72 FR 73315 (December 27, 2007).

On April 14, 2008, we preliminarily rescinded this review based on evidence on the record indicating that there were no entries into the United States. See Preliminary Rescission of Antidumping Duty Administrative Review: Certain Hot-Rolled Carbon Steel Flat Products From The People's Republic of China, (“Preliminary Rescission”), 73 FR 20021 (April 14, 2008). We invited interested parties to submit comments on our Preliminary Rescission. We did not receive any comments on our Preliminary Rescission.

Scope of the Review

For purposes of this review, the products covered are certain hot-rolled carbon steel flat products of a rectangular shape, of a width of 0.5 inch or greater, neither clad, plated, nor coated with metal and whether or not painted, varnished, or coated with plastics or other non-metallic substances, in coils (whether or not in successively superimposed layers), regardless of thickness, and in straight lengths of a thickness of less than 4.75 mm and of a width measuring at least 10 times the thickness. Universal mill plate (i.e., flat-rolled products rolled on four faces or in a closed box pass, of a width exceeding 150 mm, but not exceeding 1250 mm, and of a thickness of not less than 4.0 mm, not in coils and without patterns in relief) of a thickness not less than 4.0 mm is not included within the scope of this review.

Specifically included within the scope of this review are vacuum degassed, fully stabilized (commonly referred to as interstitial-free (“IF”)) steels, high strength low alloy (“HSLA”) steels, and the substrate for motor lamination steels. IF steels are recognized as low carbon steels with micro-alloying levels of elements such as titanium or niobium (also commonly referred to as columbium), or both, added to stabilize carbon and nitrogen elements. HSLA steels are recognized as steels with micro-alloying levels of elements such as chromium, copper, niobium, vanadium, and molybdenum. The substrate for motor lamination steels contains micro-alloying levels of elements such as silicon and aluminum.

Steel products to be included in the scope of this review, regardless of definitions in the Harmonized Tariff Schedule of the United States (“HTSUS”), are products in which: i) iron predominates, by weight, over each of the other contained elements; ii) the carbon content is 2 percent or less, by weight; and, iii) none of the elements listed below exceeds the quantity, by weight, respectively indicated:

1.80 percent of manganese, or

2.25 percent of silicon, or

1.00 percent of copper, or

0.50 percent of aluminum, or

1.25 percent of chromium, or

0.30 percent of cobalt, or

0.40 percent of lead, or

1.25 percent of nickel, or

0.30 percent of tungsten, or

0.10 percent of molybdenum, or

0.10 percent of niobium, or

0.15 percent of vanadium, or

0.15 percent of zirconium.

All products that meet the physical and chemical description provided above are within the scope of this review unless otherwise excluded. The following products, by way of example, are outside or specifically excluded from the scope of this review:

. Alloy hot-rolled steel products in which at least one of the chemical elements exceeds those listed above (including, e.g., American Society for Testing and Materials (“ASTM”) specifications A543, A387, A514, A517, A506).

. Society of Automotive Engineers (“SAE”)/American Iron & Steel Institute (“AISI”) grades of series 2300 and higher.

. Ball bearing steels, as defined in the HTSUS.

. Tool steels, as defined in the HTSUS.

. Silico-manganese (as defined in the HTSUS) or silicon electrical steel with a silicon level exceeding 2.25 percent.

. ASTM specifications A710 and A736.

. USS abrasion-resistant steels (USS AR 400, USS AR 500).

. All products (proprietary or otherwise) based on an alloy ASTM specification (sample specifications: ASTM A506, A507).

.

Non-rectangular shapes, not in coils, which are the result of having been processed by cutting or stamping and which have assumed the character of articles or products classified outside chapter 72 of the HTSUS.

The merchandise subject to this review is classified in the HTSUS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled carbon steel flat products covered by this review, including: vacuum degassed fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Subject merchandise may also enter under 7210.70.30.00, 7210.90.90.00, 7211.14.00.30, 7212.40.10.00, 7212.40.50.00, and 7212.50.00.00. Although the HTSUS subheadings are provided for convenience and U.S. Customs purposes, the written description of the merchandise under review is dispositive.

Period of Review

The POR is November 1, 2006, through October 31, 2007.

Final Rescission of Review

Because there is no information on the record which indicates that Baosteel made sales to the United States of subject merchandise during the POR, and because we did not receive any comments on our Preliminary Rescission, in accordance with 19 CFR 351.213(d)(3) and consistent with our practice, we are rescinding this review of the antidumping duty order on certain hot-rolled carbon steel flat products from the PRC for the period of November 1, 2006, to October 31, 2007.¹ The cash deposit rate for Baosteel will continue to be the rate established in the most recently completed segment of this proceeding.

This notice is in accordance with sections 751(a)(1) and 777(i)(1) of the Tariff Act of 1930, as amended, and 19 CFR 351.213(d)(4).

Dated: June 9, 2008.
Stephen J. Claeys,
Deputy Assistant Secretary for Import Administration.

¹ See, e.g, Stainless Steel Sheet and Strip in Coils from Japan; Final Rescission of Antidumping Duty Administrative Review, 71 FR 26041 (May 3, 2006).

[FR Doc. E8-13487 Filed 6-13-08; 8:45 am]

BILLING CODE 3510-DS-S